DEPARTMENT OF ENERGY

Federal Energy Regulatory Commission

[Docket No. RP95-408-036]

Columbia Gas Transmission Corporation; Notice of Refund Report

February 28, 2000.

Take notice that on February 22, 2000, Columbia Gas Transmission Corporation (Columbia) tendered for filing a refund report in the above referenced docket, pursuant to Section 154.501(e) of the Commission's regulations.

Columbia states that it made a filing on December 15, 1999, pursuant to a settlement approved by the Commission in Docket No. RP95-408-013 (79 FERC 61,044), to share gains from the sale of certain gathering and products extraction facilities. The Commission approved the filing by letter order dated February 11, 2000 in Docket No. RP95-408-032, authorizing Columbia to make the refund and directing Columbia to calculate additional interest to the date of the refund. Columbia states that the instant filing shows that Columbia made the refund, including interest through the date of the refund, which was January 20, 2000.

Columbia states that copies of its filing have been mailed to all affected customers and state commissions.

Any person desiring to protest said filing should file a protest with the Federal Energy Regulatory Commission, 888 First Street, NE, Washington, DC 20426, in accordance with Section 385.211 of the Commission's Rules and Regulations. All such protests must be filed on or before March 3, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-5023 Filed 3-1-00; 8:45 am]

BILLING CODE 6717-01-M